DEPARTMENT OF AGRICULTURE

Rural Utilities Service

Announcement of Disaster Assistance Grant Application Deadlines and Funding Levels

AGENCY: Rural Utilities Service, USDA.

ACTION: Notice of funds availability.

SUMMARY: As part of the Bipartisan Budget Act of 2018, Public Law 115-123, dated February 9, 2018, the Rural Utilities Service's Water and Environmental Programs (WEP) received $165,475,000 in supplemental grant funding of which $163,475,000 is available for repairs to drinking water systems and sewer and solid waste disposal systems impacted by Hurricanes Harvey, Irma, and Maria. States impacted include: Florida, Georgia, South Carolina, Texas, and the territories of Puerto Rico and Virgin Islands.

DATES: Unless otherwise specified in this Notice, applications will be accepted on a continual basis until funds are exhausted.

ADDRESSES: Entities wishing to apply for assistance, or that are in need of further information, should contact the USDA Rural Development State Office in the State where the project is located. A list of the USDA Rural Development State Offices addresses and telephone numbers is as follows:

Note: Telephone numbers are not toll-free.

Florida/Virgin Islands

USDA Rural Development State Office, 4440 NW 25th Place, P.O. Box 147010, Gainesville, FL 32614-7010, (352) 338-3400/TDD (352) 338-3499.

Georgia

USDA Rural Development State Office, Stephens Federal Building, 355 E Hancock Avenue, Athens, GA 30601-2768, (706) 546-2162/TDD (706) 546-2034.

South Carolina

USDA Rural Development State Office, Strom Thurmond Federal Building, 1835 Assembly Street, Room 1007, Columbia, SC 29201, (803) 765-5163/TDD (803) 765-5697.

Texas

USDA Rural Development State Office, Federal Building, Suite 102, 101 South Main, Temple, TX 76501, (254) 742-9700/TDD (254) 742-9712.

Puerto Rico

USDA Rural Development State Office, IBM Building, Suite 601, 654 Munos Rivera Avenue, San Juan, PR 00918-6106, (787) 766-5095/TDD (787) 766-5332.

FOR FURTHER INFORMATION CONTACT:

Main point of contact: Derek Jones, Community Programs Specialist, Water and Environmental Programs, Rural Utilities Service, Rural Development, U.S. Department of Agriculture.

Phone: (202) 720-9640.

Fax: (202) 690-0649.

Email: derek.jones@wdc.usda.gov

SUPPLEMENTARY INFORMATION:

Paperwork Reduction Act

In accordance with the Paperwork Reduction Act of 1995, the information collection requirements associated with the Program, as covered in this Notice, have been approved by the Office of Management Budget (OMB) under OMB Control Number 0572-0121.

Overview

Federal Agency Name: Rural Utilities Service (“RUS,” an Agency of USDA in the Rural Development mission area).

Solicitation Opportunity Title: Announcement of Disaster Assistance Grant Application Deadlines and Funding Levels.

Announcement Type: Notice of Funds Availability.

Catalog of Federal Domestic Assistance (CFDA) Number: The CFDA number for this Notice is 10.760.

Dates: Unless otherwise specified in this Notice, applications will be accepted on a continual basis until funds are exhausted.

A. Program Description

This program is designed to provide supplemental grant funding for repairs to drinking water systems and sewer and solid waste disposal systems impacted by Hurricanes Harvey, Irma, and Maria in the states of Florida, Georgia, South Carolina, Texas, and the territories of Puerto Rico and Virgin Islands.

Details on eligible applicants and projects may be found in the relevant regulations listed in Section B, Eligibility Information below.

The applicable Statutory or Regulatory authority for this action includes:

• Bipartisan Budget Act of 2018, Public Law 115-123, Rural Utilities Service Rural Water and Waste Disposal Program Account.

• 2 CFR parts 200 and 400, uniform Federal grant awards regulations.

B. Federal Award Description—Disaster Assistance Grants

The Bipartisan Budget Act of 2018, Public Law 115-123, dated February 9, 2018, enables USDA Rural Development to provide: WEP $165,475,000 in supplemental grant funding of which $163,475,000 is available for repairs to drinking water systems and sewer and solid waste disposal systems impacted by Hurricanes Harvey, Irma, and Maria in the states of Florida, Georgia, South Carolina, Texas, and the territories of Puerto Rico and Virgin Islands.

C. Eligibility Information

1. Applicant eligibility. An eligible Applicant must:

(i) Be either a Public Body, a Nonprofit Corporation, or an Indian tribe.

(ii) Be eligible to receive a Federal loan or grant under Federal law.

(iii) Certify in writing, and the Agency shall determine and document, that (1) the Applicant is unable to finance the proposed project from their own resources or through commercial credit at reasonable rates and terms, or as applicable, (2) the applicant made repairs by utilizing their own resources or by obtaining commercial credit and as a result is experiencing financial hardship that is impacting its operations and its customers.

(iv) Have the legal authority necessary for owning, constructing, operating, and maintaining the facility or service to be repaired or replaced and for obtaining security for the proposed grant. The Applicant shall be responsible for operating, maintaining, and managing the facility, and providing for its continued availability and use at reasonable user rates and charges. The Applicant shall retain this responsibility even though the facility may be operated, maintained, or managed by a third party under contract or management agreement. Applicants must submit evidence of legal authority before grant approval/obligation

(v) Demonstrate that they possess the technical, managerial, and financial capability necessary to consistently comply with pertinent Federal and State laws and requirements.

(vi) Be current on the repayment of all debts at the time they are due.

2. Eligible facilities. An eligible facility must serve a rural area. The term rural or rural area means a city, town, or unincorporated area that has a population of no more than 50,000 in habitants. Projects funded by the Agency may be located in non-rural areas. However, grant funds may be used to repair only that portion of the facility serving and benefiting rural areas, regardless of project location, that has a population up to 50,000.

3. State nonmetropolitan median household income (MHI) according to the American Community Survey (ACS) five-year data (2006-2010). An income survey may also be conducted to determine rural area income if the ACS sample size is insufficient and/or does not accurately represent the city or town's median household income. If the MHI of the population being served is less than the poverty or 80% of State Non-metro median household grant, then the project may qualify for up to 100% grant. If MHI is between 80% SNMHI and 100%, then the project may qualify for up to 75% grant. If SNMHI is over 100%, then the project is limited to 45% grant. If the project does not qualify for 100% grant, then the system may supplement the funding from applicant contribution and/or other funding sources. Median household income is according to the American Community Survey (ACS) five-year data (2006-2010).

4. Eligible grant purposes. Grant funds may only be used to repair damages to drinking water systems or sewer and solid waste disposal systems caused by Hurricanes Harvey, Irma, or Maria. If repairs to a system are not economically feasible or cost-effective due to the extent of the damage caused by a hurricane, WEP will consider replacement (as opposed to repair) on a case-by-case basis.

For such repairs and replacements already made to restore service, grants may be awarded to reimburse applicants for expenses incurred by the applicant. These expenses must have been incurred within two years from the date of the covered hurricane. Reimbursement must be justified by a clear demonstration of financial hardship to the system or its customers due to the use of its own funds or commercial credit to make such repairs or replacement. There shall be no reimbursement for repairs or replacements made or financed through the use of other Federal funds such as Federal Emergency Management Agency, Environmental Protection Agency, or other Federal source of assistance used for repairs or replacement, or through insurance proceeds

D. Application and Submission Information

1. Address to Request Application Package. The packages will be submitted to the USDA Rural Development State Office in the State where the project is located as listed in the ADDRESSES section of this Notice. Applicants can also apply through RUS' website for online applications, RDApply. The RDApply website link is as follows: https://rdapply.usda.gov.

2. Content and Form of Application Submission. Applicants will be required to submit the following items to the processing office, upon notification from the processing office to proceed with further development of the full application. The forms below are available on the RD website: (https://forms.sc.egov.usda.gov/eForms/welcomeAction.do?Home):

i. Form RD 442-7, “Operating Budget” or similar form.

ii. Form RD 1910-11, “Application Certification, Federal Collection Policies for Consumer or Commercial Debts;”

iii. Form RD 400-1, “Equal Opportunity Agreement;”

iv. Form RD 400-4, “Assurance Agreement;”

v. Form AD-1047, “Certification Regarding Debarment, Suspension and other Responsibility Matters;”

vii. Form AD-1049, “Certification regarding Drug-Free Workplace Requirements (Grants) Alternative I For Grantees Other Than Individuals;”

viii. Certifications for Contracts, Grants, and Loans (Regarding Lobbying); and

ix. Certification regarding prohibited tying arrangements. Applicants that provide electric service must provide the Agency a certification that they will not require users of a water or waste facility financed under this Notice to accept electric service as a condition of receiving water assistance.

3. Dun and Bradstreet Universal Systems (DUNS) Number and System for Award Management (SAM). Dun and Bradstreet Data Universal Numbering System (DUNS) and System for Awards Management (SAM) Grant applicants must obtain a Dun and Bradstreet Data Universal Numbering System (DUNS) number and register in the System for Award Management (SAM) prior to submitting an application pursuant to 2 CFR 25.200(b). In addition, an entity applicant must maintain registration in SAM at all times during which it has an active Federal award or an application or plan under consideration by the Agency. Similarly, all recipients of Federal financial assistance are required to report information about first-tier subawards and executive compensation in accordance to 2 CFR part 170. So long as an entity applicant does not have an exception under 2 CFR 170.110(b), the applicant must have the necessary processes and systems in place to comply with the reporting requirements should the applicant receive funding. See 2 CFR 170.200(b). An applicant, unless excepted under 2 CFR 25.110(b), (c), or (d), is required to:

i. Be registered in SAM before submitting its application;

ii. Provide a valid DUNS number in its application; and

iii. Continue to maintain an active SAM registration with current information at all times during which it has an active Federal award or an application or plan under consideration by a Federal awarding agency.

The Federal awarding agency may not make a federal award to an applicant until the applicant has complied with all applicable DUNS and SAM requirements and, if an applicant has not fully complied with the requirements by the time the Federal awarding agency is ready to make a Federal award, the Federal awarding agency may determine that the applicant is not qualified to receive a Federal award and use that determination as a basis for making a Federal award to another applicant. As required by the Office of Management and Budget (OMB), all grant applications must provide a DUNS number when applying for Federal grants, on or after October 1, 2003. Organizations can receive a DUNS number at no cost by calling the dedicated toll-free number at 1-866-705-5711 or via internet at http://fedgov.dnb.com/webform. Additional information concerning this requirement can be obtained on the Grants.gov website at http://www.grants.gov. Similarly, applicants may register for SAM at https://www.sam.gov or by calling 1-866-606-8220. The applicant must provide documentation that they are registered in SAM and their DUNS number. If the applicant does not provide documentation that they are registered in SAM and their DUNS number, the application will not be considered for funding.

You will need the following information when requesting a DUNS number:

i. Legal Name of the Applicant;

ii. Headquarters name and address of the Applicant;

iii. The names under which the Applicant is doing business as (dba) or other name by which the organization is commonly recognized;

iv. Physical address of the Applicant;

v. Mailing address (if separate from headquarters and/or physical address) of the Applicant;

vi. Telephone number;

vii. Contact name and title; and

viii. Number of employees at the physical location.

4. Submission Dates and Times. Unless otherwise specified in this Notice, applications will be accepted on a rolling basis until funds are exhausted.

5. Intergovernmental Review. The following program is subject to the provisions of Executive Order 12372 which requires intergovernmental consultation with State and local officials, pursuant to 2 CFR part 415, subpart C, as a covered program.

6. Funding Restrictions. Grant funds may not be used to finance:

i. Repairs or replacement of facilities not directly impacted by Hurricanes Harvey, Irma, or Maria;

ii. Facilities which are not modest in size, design, and cost;

iii. Grant finder's fees;

iv. Any portion of the cost of a facility which does not serve a rural area as defined in this Notice;

v. That portion of project costs normally provided by a business or industrial user, such as wastewater pretreatment;

vi. Rental for the use of equipment or machinery owned by the applicant; or

vii. Other purposes not directly related to operating and maintenance of the facility being repaired or replaced.

E. Application Review Information

Within 15 days of receiving your application, RUS will send you a letter of acknowledgment. Your application will be reviewed for completeness to determine if you included all of the items required. If your application is incomplete or ineligible, RUS will return it to you with an explanation. Applicants may resubmit applications deemed incomplete or ineligible after revising them in accordance with RUS explanation.

1. Criteria. In the event demand for funding is greater than the amount of funds available, a priority ranking scoring system will be used to determine which projects are funded. When ranking eligible applications for consideration for limited funds, Agency officials will consider the priority items met by each application and the degree to which those priorities are met. Points will be awarded as indicated below. This is a new grant program. Some guidelines historically utilized in other grant programs informed the development of the point system.

Priorities | Points
i. Population: The proposed project will serve an area with a rural population:
a. Not in excess of 1,500 | 30
b. More than 1,500 and not in excess of 3,000 | 20
c. More than 3,000 and not in excess of 5,000 | 15
d. Over 5,000 | 0
ii. Income: The median household income of population to be served by the proposed project is:
a. Not in excess of 70 percent of the statewide nonmetropolitan median household income | 30
b. More than 70 percent and not in excess of 80 percent of the statewide nonmetropolitan median household income | 20
c. More than 80 percent and not in excess of 90 percent of the statewide nonmetropolitan median household income | 10
d. More than 90 percent of the statewide nonmetropolitan Median household income | 0
iii. Health Priorities:
a. Needed to alleviate an emergency situation, correct unanticipated diminution in quantity or deterioration in quality of a water supply, or to meet Safe Drinking Water Act requirements which pertain to a water system. | 25
b. Required to correct inadequacies of a wastewater disposal system, or to meet health standards which pertain to a wastewater disposal system. | 25
c. Required to meet administrative orders issued to Correct local, State or Federal solid waste violations | 15
iv Other Priorities:
a. Applicant is a public body or Indian Tribe | 5
b. Amount of other than RUS funds committed to the project:
A. 50% or more | 15
B. 20% to 49% | 10
C. 5%-19% | 5
D. Less than 5% | 0
c. The utility has not been able to secure the funds needed for repairs from its own resources or from commercial credit | 15
d. The proposed project will serve an area that has an unreliable quality or supply of drinking water | 10

The RUS Administrator may assign up to 15 additional points that will be considered in the total points. These points will be added to address items such as geographic distribution of funds, the highest priority projects within the jurisdiction, and emergency conditions caused by the hurricanes. The Administrator may delegate the authority to assign these points to National Office staff.

2. Review and Selection Process. All applications will be processed and scored in the State Office and then reviewed for funding priority at the National Office. RUS will rank all qualifying applications by their final score. Applications will be selected for funding, based on the highest scores. Each applicant will be notified in writing of the score its application receives and whether it was approved for funding.

F. Federal Award Administration Information

1. Federal Review Notices. RUS generally notifies by mail those applicants whose projects were approved for funding. However, the receipt of an approval letter does not serve to authorize the applicant to commence performance under the grant. RUS follows the approval letter with a grant agreement containing terms and conditions for the grant. Applicants selected for funding will complete and return grant agreement, which outlines the terms and conditions of the grant award and other forms as required.

2. Administrative and National Policy. The items listed in Section A of this notice, and Departmental and other regulations including 2 CFR parts 180, 182, 200, 400, 421 and any successor regulations implementing the appropriate administrative and national policy requirements of this grant program, which include but are not limited to:

i. SF-270, “Request for Advance or Reimbursement,” will be completed by the Non-Federal Entity and submitted to either the State or National office no more frequently than monthly.

ii. Upon receipt of a properly completed SF-270, the funds will be requested through the field office terminal system. Ordinarily, payment will be made within 30 days after receipt of a proper request for reimbursement.

iii. Non-Federal Entities may use women- and minority-owned banks (a bank which is owned at least 50 percent by women or minority group members) for the deposit and disbursement of funds.

3. Reporting.

i. Any change in the scope of the project or any other significant change in the project must be reported to and approved by the approval official by written amendment to the grant agreement. Any change not approved may be cause for termination of the grant.

ii. Non-Federal Entities shall constantly monitor performance to ensure that time schedules are being met, projected work by time periods is being accomplished, and other performance objectives are being achieved. The Non-Federal Entity will provide project reports to the Agency as follows:

iii. SF-425, “Financial Status Report (short form),” and a project performance activity report will be required of all Non-Federal Entities on a quarterly basis, due 30 days after the end of each quarter.

iv. A final project performance report will be required with the last SF-425 due 90 days after the end of the last quarter in which the project is completed.

v. Financial reporting. The Non-Federal Entity will provide an audit report or financial statements to the Agency as follows:

vi. Non-Federal Entities expending $750,000 or more Federal funds per fiscal year will submit an audit conducted in accordance with 2 CFR part 200. The audit will be submitted within nine months after the Non-Federal Entity's fiscal year. Additional audits may be required if the project period covers more than one fiscal year.

vii. Non-Federal Entities expending less than $750,000 will provide annual financial statements covering the grant period, consisting of the organization's statement of income and expense and balance sheet signed by an appropriate official of the organization. Financial statements will be submitted within 90 days after the Non-Federal Entity's fiscal year.

G. Federal Awarding Contacts

Main point of contact: Derek Jones, Community Programs Specialist, Water and Environmental Programs, Rural Utilities Service, Rural Development, U.S. Department of Agriculture.

Phone: (202) 720-9640.

Fax: (202) 690-0649.

Email: derek.jones@wdc.usda.gov.

H. Other Information

1. Civil Rights. Programs referenced in this Notice are subject to applicable Civil Rights Laws. These laws include the Equal Credit Opportunity Act, Title VI of the Civil Rights Act of 1964, Title VIII of the Civil Rights Act of 1968, as amended in 1988, and Section 504 of the Rehabilitation Act of 1973.

2. Non-Discrimination Statement. In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program. Political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at: http://www.ascr.usda.gov/complaint_filing_cust.html, and at any USDA office or write a letter addressed to USDA and provide in the letter all of the information requested in the form. To request a copy of a complaint form, call, (866) 632-9992. Submit your completed form or letter to USDA by:

1. Mail: U.S. Department of Agriculture, Office of the Assistant Secretary for Civil Rights, 1400 Independence Avenue SW, Washington, DC 20250-9410;

2. Fax: (202) 690-7442; or

3. Email at: program.intake@usda.gov.

USDA is an equal opportunity provider, employer, and lender.

Dated: September 6, 2018.
Christopher A. McLean,
Acting Administrator, Rural Utilities Service.

[FR Doc. 2018-19784 Filed 9-11-18; 8:45 am]

BILLING CODE 3410-15-P